DEPARTMENT OF ENERGY

Federal Energy Regulatory Commission

[Project No. 13219-000]

Fourever Green Energy Co.; Notice of Preliminary Permit Application Accepted for Filing and Soliciting Comment, Motions To Intervene, and Competing Applications

September 19, 2008.

On May 2, 2008, with revisions of July 28 and September 15, 2008, Fourever Green Energy Co. filed an application, pursuant to section 4(f) of the Federal Power Act, proposing to study the feasibility of the Upper Rock Creek Water Power Project, which would be located near the town of Oroville on Rock Creek, a tributary of the North Fork, Feather River in Plumas County, California.

The proposed project would consist of: (1) Proposed diversion and intake structures; (2) a proposed 0.9-mile-long, metal/composite penstock; (3) a proposed powerhouse containing one generating unit having a total installed capacity of 5 MW; (4) a proposed 450-foot-long, 230-kV transmission line; and (5) appurtenant facilities. The project would have an annual generation of 15 gigawatt-hours which would be sold to a local utility.

Applicant Contact: Mr. Ron Bingaman, 25855 Sweet Road, Grass Valley, CA 95949; phone: (530) 268-2153. FERC Contact: Tom Papsidero, 202-502-6002.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13219) in the docket number field to access the document. For assistance, call toll-free 1-866-208-3372.

Kimberly D. Bose,
Secretary.

[FR Doc. E8-22620 Filed 9-25-08; 8:45 am]

BILLING CODE 6717-01-P